DEPARTMENT OF ENERGY

Office of Energy Efficiency and Renewable Energy

Biomass Research and Development Technical Advisory Committee

AGENCY: Department of Energy.

ACTION: Notice of open meeting.

SUMMARY: This notice announces an open meeting of the Biomass Research and Development Technical Advisory Committee. The Federal Advisory Committee Act (Public Law No. 92-463, 86 Stat. 770), requires that agencies publish these notices in the Federal Register to allow for public participation. This notice announces the first meeting of the Biomass Research and Development Technical Advisory Committee under the Biomass Research and Development Act of 2000.

Dates: December 13, 2000.

Time: 9 a.m.-4 p.m.

ADDRESSES: 1800 M Street, NW., 3rd Floor, Waugh Auditorium, Washington, DC 20036.

FOR FURTHER INFORMATION CONTACT: Richard F. Moorer, Designated Federal Officer for the Committee, Office of Energy Efficiency and Renewable Energy, U.S. Department of Energy, 1000 Independence Avenue, SW, Washington, DC 20585; (202) 586-7766.

SUPPLEMENTARY INFORMATION: Purpose of Meeting: To provide advice and guidance that promotes research and development leading to bioenergy and biobased products. Tentative Agenda: Agenda will include discussions on the following:

• Legal Briefing on Federal Advisory Committee Act (FACA)

• Biomass Research and Development Act of 2000

• Charter of the Biomass Research and Development Technical Advisory Committee

• Accomplishments and Ongoing actions to promote the increased use of bioenergy and biobased products

• Recent and proposed solicitations to promote bioenergy and biobased products

• Next steps

• Public comments

• Coordination among Federal agencies

• Strategic Plan

• Report to Congress

Public Participation: In keeping with procedures, members of the public are welcome to observe the business of the Biomass Research and Development Technical Advisory Committee. If you would like to file a written statement with the Committee, you may do so either before or after the meeting. If you would like to make oral statements regarding any of these items on the agenda, you should contact Richard F. Moorer at 202-586-7766 or Biocoord@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. The Chair will conduct the meeting to facilitate the orderly conduct of business.

Minutes: The minutes of the meeting will be available for public review and copying within 30 days at the Freedom of Information Public Reading Room; Room 1E-190; Forrestal Building; 1000 Independence Avenue, SW, Washington, DC, between 9:00 a.m. and 4:00 p.m., Monday through Friday, except Federal holidays.

Issued at Washington, DC on November 21, 2000.
Rachel M. Samuel,
Deputy Advisory Committee Management Officer.

[FR Doc. 00-30126 Filed 11-24-00; 8:45 am]

BILLING CODE 6450-01-P